DEPARTMENT OF TRANSPORTATION

Federal Aviation Administration

14 CFR Part 71

[Docket No. FAA-2013-0961; Airspace Docket No. 13-AEA-13]

RIN 2120-AA66

Amendment of VOR Federal Airways V-35 and V-276; Eastern United States

AGENCY: Federal Aviation Administration (FAA), DOT.

ACTION: Final rule; delay of effective date.

SUMMARY: This action changes the effective date of a final rule published in the Federal Register on April 1, 2014, amending VOR Federal airways V-35 and V-276 in the eastern United States. The FAA is taking this action to link the effective date of the airway amendments with the completion of the development of associated enroute and terminal procedures and the date for decommissioning the Tyrone, PA VORTAC.

DATES: The effective date of the final rule published on April 1, 2014 is delayed from May 29, 2014 to July 24, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

Federal Register Document No. 2013-0961, Airspace Docket No. 13-AEA-13, published in the Federal Register on April 1, 2014 (79 FR 18153), amends VOR Federal airways V-35 and V-276 due to the planned decommissioning of the Tyrone, PA, VORTAC. The development of associated enroute and terminal procedures and decommissioning of the VORTAC are planned for July 24, 2014, therefore the rule amending of V-35 and V-276 is delayed until that date.

VOR Federal airways are published in paragraph 6010 of FAA Order 7400.9X, dated August 7, 2013, and effective September 5, 2013, which is incorporated by reference in 14 CFR 71.1. The VOR Federal airways listed in this document will be subsequently published in the Order.

Delay of Effective Date

Accordingly, pursuant to the authority delegated to me, the effective date of the final rule, Airspace Docket 13-AEA-13, as published in the Federal Register on April 1, 2014 (79 FR 18153), is hereby delayed until July 24, 2014.

Authority: 49 U.S.C. 106(g), 40103, 40113, 40120; E.O. 10854, 24 FR 9565, 3 CFR, 1959-1963 Comp., p. 389.

Issued in Washington, DC, on April 10, 2014.
Gary A. Norek,
Manager, Airspace Policy and Regulations Group.

[FR Doc. 2014-08693 Filed 4-16-14; 8:45 am]

BILLING CODE 4910-13-P